DEPARTMENT OF COMMERCE

National Oceanic and Atmospheric Administration

Agency Information Collection Activities; Submission to the Office of Management and Budget (OMB) for Review and Approval; Comment Request; Alaska Interagency Electronic Reporting System (IERS)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 24, 2020 (85 FR 37877), during a 60-day comment period. This notice allows for an additional 30 days for public comments.

Agency: National Oceanic and Atmospheric Administration (NOAA).

Title: Alaska Interagency Electronic Reporting System (IERS).

OMB Control Number: 0648-0515.

Form Number(s): None.

Type of Request: Regular submission [extension of a current information collection].

Number of Respondents: 206.

Average Hours per Response: eLandings registration, 15 minutes; electronic logbooks, 15 minutes; shoreside processor production report, 10 minutes; at-sea processor production report, 20 minutes; mothership landing report, 10 minutes; out-of-state landing report, 20 minutes; shoreside processor and catcher processor, landing reports, 30 minutes each; tender landing report, 35 minutes; registered buyer and registered crab receiver landing reports, 60 minutes each.

Total Annual Burden Hours: 20,271.

Needs and Uses: The National Marine Fisheries Services (NMFS), Alaska Regional Office, is requesting extension of a currently approved information collection for the Alaska Interagency Electronic Reporting System (IERS).

IERS is a fisheries data collection system that enables the management of commercial fisheries off Alaska and is supported through a partnership among the NMFS Alaska Regional Office, the Alaska Department of Fish and Game (ADF&G), and the International Pacific Halibut Commission (IPHC). IERS provides the Alaska fishing industry with a consolidated, electronic means of reporting commercial fish and shellfish information to multiple management agencies through a single reporting system. The recordkeeping and reporting requirements for IERS are located at 50 CFR 679.5.

Users enter information into IERS using three main components, depending on their internet access and transmission capability:

• eLandings provides web-based access for shoreside and stationary floating processors to submit landings and production information and also by some catcher/processors and motherships who have access to the internet to submit their data.

• seaLandings is a fishery harvest reporting software program that functions without constant internet connectivity and is installed on computer workstations. The seaLandings interface targets at-sea vessels with limited access to the web (typically for catcher/processors and motherships which report at sea). Landings, production, and eLog information can be sent from seaLandings via direct transmission (a report file is zipped up and sent over the internet and processed behind the scenes) or via email.

• tLandings is a USB-installed program that tender vessels with no web access can use to enter landings information.

Through IERS, NMFS collects information on landings, production, and effort for groundfish and crab species to support the agency's management responsibilities. IERS has four main information collections: Registration, landing reports, production reports, and electronic logbooks. Landing reports document the harvest of fish and shellfish that is sold, discarded, or retained by the fisherman. Production reports provide information on the amount of processed product that is generated by processors. Logbooks provide information about where and when fishing effort occurs. NMFS uses information collected in IERS for in-season and inter-season management decisions that affect the fishery resources and the fishing industry that uses those resources.

Information collected through the IERS promotes the goals and objectives of fishery management plans, the Magnuson-Stevens Fishery Conservation and Management Act, and other applicable laws. Collecting information from fishery participants is necessary for successful management of groundfish, crab, Pacific halibut, and salmon resources.

Compared with paper forms and conventional logbooks, IERS is a more convenient, accurate, and timely method of fisheries reporting. Benefits of IERS include improved data quality, automated processing of data, improved process for correcting or updating information, availability of more timely data for fishery managers, and reduction of duplicative reporting of similar information to multiple agencies. Additionally, IERS provides continuous online access to individual accounts for participants.

This renewal will incorporate the change request associated with the rule for Amendment 121 to Fishery Management Plan for Groundfish of the Bering Sea and Aleutian Islands Management Area and Amendment 110 to Fishery Management Plan for Groundfish of the Gulf of Alaska (85 FR 41427, July 10, 2020). The rule reclassifies sculpins as a non-target ecosystem component (EC) species and makes minor revisions to the information collection requirements to clarify the location of the species code for sculpins in the tables to 50 CFR part 679 to note that sculpins should be reported as non-target EC species rather than target species

Affected Public: Individuals or households; Business or other for-profit organizations.

Frequency: On occasion; Daily.

Respondent's Obligation: Required to Obtain or Retain Benefits.

Legal Authority: 16 U.S.C. 1801 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0515.

Sheleen Dumas,
Department PRA Clearance Officer, Office of the Chief Information Officer, Commerce Department.

[FR Doc. 2020-24720 Filed 11-5-20; 8:45 am]

BILLING CODE 3510-22-P